DEPARTMENT OF THE TREASURY

United States Mint

Change to “Procedures To Qualify for Bulk Purchase of Gold Bullion Coins”

AGENCY: United States Mint, Department of the Treasury.

ACTION: Notice.

SUMMARY: The United States Mint has revised the requirements to become an Authorized Purchaser of American Eagle Gold Bullion Coins. The revised qualification requirements are documented in the revised “Procedures to Qualify for Bulk Purchase of Gold Bullion Coins.” (This document can be accessed at http://www.usmint.gov/consumer/index.cfm?action=AmericanEagles) These changes apply to new applications effective immediately. Significant modifications include clarifications to the “Purpose” section and “Marketing Support” section, and adjustments to the “Experienced Market-Maker in Gold Bullion Coins” section and “Tangible Net Worth” section. Changes to the accounting certification requirements and agreement terms and conditions are also incorporated. A new section has been added entitled “Right to Temporarily Refrain from the Review of New Applications,” during periods in which the allocation of a bullion product is required. Other minor changes have been made which provide further clarifications to various production descriptions and/or the gold bullion coin program in accordance with 31 U.S.C. 5112(a)(7-11) and (i).

FOR FURTHER INFORMATION CONTACT: B. B. Craig, Associate Director for Sales and Marketing; United States Mint; 801 9th Street, NW.; Washington, DC 20220; or call 202-354-7500.

Authority: 31 U.S.C. 5112(a)(7-11) and (i).

Dated: August 20, 2010.
Edmund C. Moy,
Director, United States Mint.

[FR Doc. 2010-21495 Filed 8-27-10; 8:45 am]

BILLING CODE P